DEPARTMENT OF HEALTH AND HUMAN SERVICES

Centers for Disease Control and Prevention

Disease, Disability, and Injury Prevention and Control Special Emphasis Panel (SEP): Initial Review.

The meeting announced below concerns Grants for Injury Control Research Centers (Panel 1), Funding Opportunity Announcement (FOA) CE14-001, Initial Review.

In accordance with Section 10(a)(2) of the Federal Advisory Committee Act (Pub. L. 92-463), the Centers for Disease Control and Prevention (CDC) announces the aforementioned meeting:

Time and Date: 8:30 a.m.-5:30 p.m. EST, April 15-16, 2014 (Closed).

Place: Georgian Terrace, 659 Peachtree Road NE., Room 4, Atlanta, Georgia 30308. This meeting will also be held by teleconference.

Status: The meeting will be closed to the public in accordance with provisions set forth in Section 552b(c) (4) and (6), Title 5 U.S.C., and the Determination of the Director, Management Analysis and Services Office, CDC, pursuant to Public Law 92-463.

Matters For Discussion: The meeting will include the initial review, discussion, and evaluation of applications received in response to “Grants for Injury Control Research Centers, Panel 1, FOA CE14-001”.

Contact Person For More Information: Donald Blackman, Ph.D., Scientific Review Officer, CDC, 4770 Buford Highway, NE., Mailstop F63, Atlanta, Georgia 30341, Telephone: (770) 488-0641.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2014-05925 Filed 3-18-14; 8:45 am]

BILLING CODE 4163-18-P